DEPARTMENT OF TRANSPORTATION

Federal Aviation Administration

14 CFR Part 39

[Docket No. FAA-2021-0574; Project Identifier 2019-SW-073-AD; Amendment 39-21725; AD 2021-19-07]

RIN 2120-AA64

Airworthiness Directives; Hélicoptères Guimbal Helicopters

AGENCY: Federal Aviation Administration (FAA), DOT.

ACTION: Final rule.

SUMMARY: The FAA is adopting a new airworthiness directive (AD) for certain Hélicoptères Guimbal Model CABRI G2 helicopters. This AD was prompted by a report that, during scheduled maintenance on two helicopters, cracks were found on a certain main rotor (MR) non-rotating scissor link. This AD requires replacing an affected MR non-rotating scissor link with a serviceable part. The FAA is issuing this AD to address the unsafe condition on these products.

DATES: This AD is effective November 4, 2021.

The Director of the Federal Register approved the incorporation by reference of a certain document listed in this AD as of November 4, 2021.

ADDRESSES: For service information identified in this final rule, contact Hélicoptères Guimbal, 1070, rue du Lieutenant Parayre, Aérodrome d'Aix-en-Provence, 13290 Les Milles, France; telephone 33-04-42-39-10-88; email support@guimbal.com; or at https://www.guimbal.com. You may view the referenced service information at the FAA, Office of the Regional Counsel, Southwest Region, 10101 Hillwood Pkwy., Room 6N-321, Fort Worth, TX 76177. For information on the availability of this material at the FAA, call (817) 222-5110. Service information that is incorporated by reference is also available at https://www.regulations.gov by searching for and locating Docket No. FAA-2021-0574.

Examining the AD Docket

You may examine the AD docket at https://www.regulations.gov by searching for and locating Docket No. FAA-2021-0574; or in person at Docket Operations between 9 a.m. and 5 p.m., Monday through Friday, except Federal holidays. The AD docket contains this final rule, the European Union Aviation Safety Agency (EASA) AD, any comments received, and other information. The street address for Docket Operations is U.S. Department of Transportation, Docket Operations, M-30, West Building Ground Floor, Room W12-140, 1200 New Jersey Avenue SE, Washington, DC 20590.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email Darren.Gassetto@faa.gov.

SUPPLEMENTARY INFORMATION:

Background

The FAA issued a notice of proposed rulemaking (NPRM) to amend 14 CFR part 39 by adding an AD that would apply to certain Hélicoptères Guimbal Model CABRI G2 helicopters. The NPRM published in the Federal Register on July 23, 2021 (86 FR 38943). In the NPRM, the FAA proposed to require replacing an affected MR non-rotating scissor link with a serviceable part. The NPRM was prompted by EASA AD 2019-0186, dated July 30, 2019 (EASA AD 2019-0186), issued by EASA, which is the Technical Agent for the Member States of the European Union, to correct an unsafe condition for certain Hélicoptères Guimbal Model CABRI G2 helicopters. EASA advises that, during scheduled maintenance on two helicopters, cracks were found on the MR non-rotating scissor link, part number (P/N) G41-10-200. The suspected root cause for the cracking is corrosion due to stress induced by the mounting of the metal bushings inside the lug hole. To address this issue the manufacturer modified the design of the MR non-rotating scissor link to reinforce the lugs and replace the metal bushings with plastic bushings. Cracking of a MR non-rotating scissor link, if not addressed, could result in failure of that scissor link, resulting in reduced control of the helicopter.

Accordingly, EASA AD 2019-0186 requires replacement of affected MR non-rotating scissor links with serviceable parts.

Discussion of Final Airworthiness Directive

Comments

The FAA gave the public the opportunity to participate in developing this final rule. The FAA received no comments on the NPRM or on the determination of the cost to the public.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for minor editorial changes, this AD is adopted as proposed in the NPRM.

Related Service Information Under 1 CFR Part 51

The FAA reviewed Guimbal Service Bulletin SB 15-015, Revision C, dated August 27, 2019. This service information specifies procedures for, among other actions, modifying the helicopter by replacing the MR nonrotating scissor link, P/N G41-10-200, with a serviceable part, P/N G41-10-201 (by installing scissor link assembly, P/N G41-12-100, which includes MR non-rotating scissor link, P/N G41-10-201) and torqueing the bolts. This service information is reasonably available because the interested parties have access to it through their normal course of business or by the means identified in the ADDRESSES section.

Other Related Service Information

The FAA also reviewed Guimbal Service Bulletin SB 15-015, Revision A, dated July 20, 2015 (SB 15-015, Revision A); and SB 15-015, Revision B, dated July 12, 2019 (SB 15-015, Revision B). SB 15-015, Revision A, describes procedures for replacing a MR non-rotating scissor link, P/N G41-10-200, with P/N G41-12-100, which has a new, improved design. SB 15-015, Revision B, describes the same procedures as SB 15-015, Revision A, and includes a revised compliance time, an updated Situation section, and added an action.

Costs of Compliance

The FAA estimates that this AD affects 32 helicopters of U.S. registry. The FAA estimates the following costs to comply with this AD:

Estimated Costs for Required Actions
Action | Labor cost | Parts cost | Cost per product | Cost on U.S. operators
Replacement | 1 work-hour × $85 per hour = $85 | $323 | $408 | $13,056

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-19-07 Hélicoptères Guimbal: Amendment 39-21725; Docket No. FAA-2021-0574; Project Identifier 2019-SW-073-AD.

(a) Effective Date

This airworthiness directive (AD) is effective November 4, 2021.

(b) Affected ADs

None.

(c) Applicability

This AD applies to Hélicoptères Guimbal Model CABRI G2 helicopters, certificated in any category, with main rotor (MR) non-rotating scissor links, part number (P/N) G41-10-200 installed.

(d) Subject

Joint Aircraft Service Component (JASC) Code: 6700, Rotorcraft Flight Control.

(e) Unsafe Condition

This AD was prompted by a report that during scheduled maintenance on two helicopters, cracks were found on the MR non-rotating scissor link with P/N G41-10-200. The FAA is issuing this AD to address cracking of a MR non-rotating scissor link. Cracking of a MR non-rotating scissor link, if not addressed, could result in failure of that scissor link, resulting in reduced control of the helicopter.

(f) Compliance

Comply with this AD within the compliance times specified, unless already done.

(g) Required Actions

(1) Within 50 hours time-in-service or 2 months after the effective date of this AD, whichever occurs first, modify the helicopter by replacing the MR non-rotating scissor link, P/N G41-10-200, with a serviceable scissor link assembly, P/N G41-12-100, in accordance with the Required Actions, IPC 4.1-2 (a) through (d) inclusive, of Guimbal Service Bulletin SB 15-015, Revision C, dated August 27, 2019.

(2) As of the effective date of this AD, do not install a MR non-rotating scissor link, P/N G41-10-200, on any helicopter.

(h) Credit for Previous Actions

This paragraph provides credit for actions required by paragraph (g)(1) of this AD, if those actions were performed before the effective date of this AD using the service information specified in paragraph (h)(1) or (2) of this AD.

(1) Guimbal Service Bulletin SB 15-015, Revision A, dated July 20, 2015.

(2) Guimbal Service Bulletin SB 15-015, Revision B, dated July 12, 2019.

(i) Special Flight Permits

Special flight permits, as described in 14 CFR 21.197 and 21.199, are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, contact Darren Gassetto, Aerospace Engineer, COS Program Management Section, Operational Safety Branch, Compliance & Airworthiness Division, FAA, 1600 Stewart Ave., Suite 410, Westbury, NY 11590; telephone (516) 228-7323; email Darren.Gassetto@faa.gov.

(2) Service information identified in this AD that is not incorporated by reference is available at the addresses specified in paragraphs (l)(3) and (4) of this AD.

(3) The subject of this AD is addressed in European Union Aviation Safety Agency (EASA) AD 2019-0186, dated July 30, 2019. You may view the EASA AD at https://www.regulations.gov in Docket No. FAA-2021-0574.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Guimbal Service Bulletin SB 15-015, Revision C, dated August 27, 2019.

(ii) [Reserved]

(3) For service information identified in this AD, contact Hélicoptères Guimbal, 1070, rue du Lieutenant Parayre, Aérodrome d'Aix-en-Provence, 13290 Les Milles, France; telephone 33-04-42-39-10-88; email support@guimbal.com; or at https://www.guimbal.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on September 1, 2021.
Gaetano A. Sciortino,
Deputy Director for Strategic Initiatives, Compliance & Airworthiness Division, Aircraft Certification Service.

[FR Doc. 2021-21116 Filed 9-29-21; 8:45 am]

BILLING CODE 4910-13-P